Title 3—

The President

Proclamation 10237 of August 6, 2021

National Health Center Week, 2021

By the President of the United States of America

A Proclamation

In 1965, our Nation launched its first community health centers to improve the lives and well-being of Americans regardless of their ability to pay. These health centers were a key component of President Lyndon B. Johnson's “Great Society” series of policy initiatives to eliminate poverty and racial injustice, and today serve as the bedrock on which our public health system was built. Today, health centers are one of the largest health care providers in the country and provide high-quality affordable, accessible, and value-based primary health care services to 29 million Americans each year—approximately 1 in 11 people across the country. They have also been a vital part of our Nation's response to the COVID-19 pandemic. Over the course of National Health Center Week, we recognize the importance of federally-supported health centers and the role they play as a beacon of strength, service, and care in our communities.

Health centers integrate medical, dental, and behavioral health care services into a single “health home” and consistently yield strong patient outcomes. Health centers also play a critical role in reducing racial and ethnic, geographic, socioeconomic, and other health disparities in the United States. They are invaluable to ensuring that our Nation's underserved populations, especially individuals and families living in poverty, rural communities, and communities of color are able to receive the care they need and deserve.

Our Nation's recovery from the COVID-19 pandemic is stronger because of our health centers, and the tireless, dedicated health center employees who continue to deliver critical services such as COVID-19 testing, treatment, and prevention services on the front lines. As we ramped up the distribution of COVID-19 vaccines over the past several months, health centers, through the Health Center COVID-19 Vaccine Program, have vaccinated and built vaccine confidence in millions of Americans from hard-hit and high-risk communities. Two-thirds of individuals vaccinated at health centers so far identify as racial and ethnic minorities. Health centers have also offered greater flexibility during the pandemic by expanding telehealth services to those in need.

I believe that health care in America should be a right, not a privilege. No one should have to lay awake at night staring at the ceiling wondering what they are going to do to get the care they need or to pay the bills if a family member gets sick. That is why I will do everything in my power to ensure that all Americans have access to the quality, affordable health care they deserve—and the peace of mind it brings.

In support of that goal, my Administration is committed to expanding health centers and increasing access to their life-saving services. That is why we invested more than $7.6 billion to help health centers prevent and respond to COVID-19 and improve health care services—including over $1 billion for major infrastructure and renovation projects at health centers across the country through the American Rescue Plan. I am also committed to doubling the Federal investment in community health centers to further expand access to care and make strides in our pursuit of health equity.

During National Health Center Week, we recognize the importance of health centers and their staff who heal and strengthen our local communities. We salute their dedication and service. As our Nation builds back better, we commit to working together to bring about a stronger, healthier Nation for all.

NOW, THEREFORE, I, JOSEPH R. BIDEN JR., President of the United States of America, by virtue of the authority vested in me by the Constitution and the laws of the United States, do hereby proclaim the week of August 8 through August 14, 2021, as National Health Center Week.

IN WITNESS WHEREOF, I have hereunto set my hand this sixth day of August, in the year of our Lord two thousand twenty-one, and of the Independence of the United States of America the two hundred and forty-sixth.

[FR Doc. 2021-17252

Filed 8-10-21; 8:45 am]

Billing code 3295-F1-P